COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List services to be furnished by nonprofit agencies employing persons who are blind or have other severe disabilities, and deletes from the Procurement List a product and services previously furnished by such agencies.

DATES: Effective Date: May 4, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On January 16, 2009 and January 30, 2009, the Committee for Purchase From People Who Are Blind or Severely Disabled published notices (74 FR 2993 and 74 FR 5637) of proposed additions to the Procurement List. No comments were received in response to the Committee's Federal Register Notices; however, pertinent comments were received from the contractor currently performing the Facilities Support Operations service at Fort Polk, LA as part of the impact analysis process and are addressed in the following paragraphs.

A representative of the current commercial contractor submitted comments in response to the Committee's letter that requested information to be used in the impact analysis. The comments recommend that this service not be added to the AbilityOne PL for three reasons. The representative commented that a qualified nonprofit agency would not have the capability to perform the services; that adding the services to the PL could have significant adverse impact on the military installation's operational mission; and that adding the services to the PL would have an adverse impact on the current commercial contractor.

Pursuant to 41 U.S.C. 46-48c and 41 CFR Chapter 51, the Committee is responsible for determining which products and services provided by qualified nonprofit agencies are suitable for procurement by the Federal Government. In each instance, the Committee evaluates the potential for employment, the qualification of the nonprofit agency, the capability of the nonprofit agency, and the level of impact.

The comments from the current contractor do not rise to the level of facts sufficient to convince the Committee that this service should not be added to the PL. The contractor speculates that the services cannot be done by a qualified nonprofit agency and that adding the services to the PL could have an adverse impact on the military's mission accomplishment. Finally, the contractor indicates that adding this service to the PL would have an adverse impact on them and their employees. The first two comments are speculative in nature and the third is not supported by the facts in order to meet the Committee definition of “severe adverse impact”. The Committee has conducted the necessary evaluation in this instance and has determined that the specific service is suitable for procurement by the Federal Government.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Base Information Transfer Center, BITC, Multiple Locations, AF Air Combat Command.

Contracting Activity: Dept of the Air Force, FA4890 ACC CONS LGC, Langley AFB, VA.

Prime NPA: The Arc of the Virginia Peninsula, Inc., Hampton, VA.

50 Vandenberg, Barksdale AFB, LA.

NPA: The Arc of Caddo-Bossier, Shreveport, LA.

5465 East Nuggat Street, Davis Monthan AFB, AZ.

NPA: Catholic Community Services of Southern Arizona, Tucson, AZ.

426 3rd Street, Dyess AFB, TX.

NPA: Training, Rehabilitation, & Development Institute, Inc., San Antonio, TX.

1234 Kenney Road, Ellsworth AFB, SD.

NPA: BH Services, Inc., Ellsworth AFB, SD.

330 Bomber Blvd, Minot AFB, ND.

NPA: MVW Services, Inc., Minot, ND.

390 Gunfighter Ave, Mountain Home AFB, ID.

NPA: Western Idaho Training Company, Inc., Caldwell, ID.

4250 Friffis Ave, Nellis AFB, NV.

NPA: Opportunity Village Association for Retarded Citizens, Las Vegas, NV.

1815 Wright Brothers Ave, Seymour Johnson AFB, NC.

NPA: The Arc of the Virginia Peninsula, Inc., Hampton, VA.

504 Shaw Drive, Shaw AFB, SC.

NPA: Genesis Development, Jefferson, IA.

Service Type/Location: Facilities Support Operations, 6661 Warrior Trail, Fort Polk, LA.

NPA: PRIDE Industries, Roseville, CA.

Contracting Activity: Dept of the Army, XR W6BB ACA POLK, Fort Polk, LA.

Deletions

On January 30, 2009 and February 13, 2009, the Committee for Purchase From People Who Are Blind or Severely Disabled published notices (74 FR 5637 and 74 FR 7216) of proposed deletions from the Procurement List.

After consideration of the relevant matter presented, the Committee has determined that the product and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 46-48c) in connection with the product and services deleted from the Procurement List.

End of Certification

Accordingly, the following product and services are deleted from the Procurement List:

Products

NSN: 7520-01-483-8986—Presentation Sheets, “SmartChart Pro”.

NPA: The Lighthouse for the Blind, Inc. (Seattle Lighthouse), Seattle, WA.

Contracting Activity: GSA/FSS OFC SUP Ctr—Paper Products, New York, NY.

Services

Service Type/Location:

Recycling/Recovery Service, McConnell, 22 CONS/LGC, McConnell AFB, KS.

NPA: MCDS Federal Contracting, Inc., McPherson, KS.

Contracting Activity: Dept of the Air Force, FA4621 22 CONS LGC, McConnell AFB, KS.

Support Service (Recreation Aide), Altus Air Force Base: 97th Air Mobility Wing, 303 J Avenue, Bldg. 302, Altus AFB, OK.

NPA: Dale Rogers Training Center, Inc., Oklahoma City, OK.

Contracting Activity: Dept of the Air Force, FA4419 97 CONS CC, Altus AFB, OK.

Barry S. Lineback,
Director, Business Operations.

[FR Doc. E9-7538 Filed 4-2-09; 8:45 am]

BILLING CODE 6353-01-P